DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Century Mining, LLC.

DATES: All comments on the petition must be received by MSHA's Office of Standards, Regulations, and Variances on or before May 27, 2025.

ADDRESSES: You may submit comments identified by Docket No. MSHA-2025-0040 by any of the following methods:

1. Federal eRulemaking Portal: https://www.regulations.gov. Follow the instructions for submitting comments for MSHA-2025-0040.

2. Fax: 202-693-9441.

3. Email: petitioncomments@dol.gov.

4. Regular Mail or Hand Delivery: MSHA, Office of Standards, Regulations, and Variances, Room C3522, 200 Constitution Ave NW, Washington, DC 20210.

Attention: S. Aromie Noe, Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-030-C.

Petitioner: Century Mining, LLC, 7004 Buckhannon Road, Volga, WV 26238.

Mine: Longview Mine, MSHA ID No. 46-09447, located in Barbour County, West Virginia.

Regulation Affected: 30 CFR 75.500(d), Permissible electric equipment.

Modification Request: The petitioner requests a modification of the application of 30 CFR 75.500(d) to allow the use of an alternative method of respirable dust protection. Specifically, the petitioner is seeking modification of the existing standard to permit usage of battery powered respirable protection units including the PureFlo ESM+ PF60, 3M Versaflo TR-300N, and Drager X-plore 8700 to be used in or inby the last open crosscut.

The petitioner states that:

(a) The petitioner is seeking an alternative to the 3M Airstream helmet to provide miners with respirable protection against coal mine dust, a protection that can provide long-term health benefits.

(b) The 3M Airstream helmet has been used in mines for over 40 years. 3M has recently faced component disruptions for the Airstream product. This has caused 3M to discontinue, globally, the Airstream on June 1, 2020. The ability to order an Airstream system and components ended in February 2020, components were available through June 2020.

(c) Currently, there are not any available replacement PAPRs (positive pressure air-purifying respirator) that meet the MSHA standard for permissibility.

(d) PAPRs provide a constant flow of filtered air, which offers respiratory protection and comfort in hot working environments.

(e) Operators that were using the Airstream do not have an alternative to provide to this type of protection to its miners.

(f) PureFlo ESM+ PF60 PAPR:

(1) The PureFlo ESM + PF60 PAPR is a NIOSH approved respirator system, which is also compliant with CSA Z94.4-11. The respirator selection process used in CSA Z94.4-11 is based on NIOSH criteria for the testing and certification of a respirator.

(2) Certified by the Safety Equipment Institute (SEI), the PureFlo ESM + PF60 PAPR is in accordance with the requirements of ANSI/ISEA Z87.1-2015 and ANSI/ISEA Z89.1-2014, American National Standard for Industrial Head Protection.

(g) 3M Versaflo Heavy Industry TR-300N:

(1) Lithium-ion battery, adjustable airflow options and expanded range of NIOSH-approved filters and cartridges for pharmaceutical environment hazards.

(2) Compatible with the 3M Versaflo Respirator Systems family of components, multiple configurations of headtops, breathing tubes, batteries, filters and cartridges.

(3) Two battery options for up to 12 hours run time, less charging time and reduced down time.

(4) Charge level indicators on battery and PAPR user interface and LED status lights for battery charge on both battery and blower.

(5) Low-charge and low-flow warnings, including vibratory, audible and visual alarms.

(6) PAPR alarm provides approximately 15 mins. of warning prior to automatic low-power shutdown.

(7) Can be wiped with a soft cloth dampened in a solution of water and mild, pH neutral detergent.

(8) Lightweight, ergonomically designed for a contoured fit and greater movement in tight work spaces.

(9) Multiple airflow rate options for user comfort.

(10) Multiple belt size adjustments and extenders for proper fit and comfort.

(11) Belt designed with flexible air channels to help provide wide, comfortable support.

(12) Pre-calibrated and ready to use, directly out of the box.

(13) Ideal for rugged work environments that require durable and strong head protection.

(14) Heavy Industrial Kit includes: M-307 Respiratory Hard Hat Assembly, TR-302N+ PAPR Unit, TR-332 High Capacity Battery, TR-341N Battery Charger Kit, BT-40 Heavy Duty Breathing Tube, TR-326 High Durability Belt, TR-3712N (HE) Filter for Particulates, TR-3600 Pre Filters, TR-326 Spark Arrestor and TR-971 Airflow Indicator.

(h) Drager X-plore 8700 EX:

(1) The X-plore 8700 Intrinsically Safe Powered Air Purifier is a device designed for intrinsically safe environments. The blower unit's design includes the following unique features to meet intrinsic safety requirements:

(2) Patented battery change system—even in the hot zone. Fast “power off” technology.

(3) Smart electronics, supervisory control.

(4) Anti-static, materials, and design.

(5) Potted Components.

(6) Fail-safe circuits.

(7) Intrinsic safe compliant PAPR system components.

(8) Designed with the worker in mind. Breathe Easy.

(9) The blower unit can operate for up to 10,000 Lifetime hours.

(10) On a single charge, depending on system configuration, the battery can operate between 16 to 20 hours.

(11) A robust connection between the battery charger and the blower unit.

(12) No annual service maintenance is required (except changing the O-ring on the hose).

(i) These products are not MSHA approved, and the manufacturers are not pursuing approval. The standards for the approval of these respirators are an accepted alternative to MSHA's standards and provide the same level of protection.

The petitioner proposes the following alternative method:

(a) Affected mine employees shall be trained in the proper use and maintenance of the PAPR in accordance with the established manufacturer guidelines. In addition to manufacturer guidelines, it shall be required that mine employees be trained to inspect the unit before each use to determine if there is any damage or defects to the unit that would negatively impact intrinsic safety. This inspection shall include all associated wiring and connections and shall take place prior to the equipment being taken underground.

(b) If, during the inspection, it is determined that there is damage that may negatively impact the intrinsic safety, the PAPR shall be immediately removed from service.

(c) The PAPR user shall conduct daily examinations of the filter and replace as needed.

(d) When fitting a new filter on the PAPR, the manufacturer's instructions shall be followed.

(e) PAPR units shall not be charged underground.

(f) A qualified person under 30 CFR 75.151 shall monitor for methane as is required by the standard in the affected areas of the mine.

(g) All requirements of 30 CFR 75.323 shall be complied with. The PAPR shall not be used if methane is detected in concentrations at or above 1.0 percent methane. When 1.0 percent or more methane is detected while the PAPR is being used, the equipment shall be de-energized immediately. When 1.5 percent or more methane is detected, the PAPR shall be withdrawn from the affected area outby the last open crosscut.

(h) Employees shall be trained on how to properly use and take care of the PAPR according to manufacturer guidelines as well as all stipulations as related to the Proposed Decision and Order (PDO). Qualified miners shall receive training regarding the information in the PDO before using equipment in the relevant part of the mine. A record of the training shall be kept and available upon request. Within 60 days of the PDO becoming finalized, the petitioner shall submit proposed revisions to 30 CFR 75.370, mine ventilation, to be approved under the 30 CFR part 48 training plan by the Coal Mine Safety and Health District Manager. The revisions shall specify initial and refresher training and when the training is conducted, an MSHA Certificate of Training (Form 5000-23) shall be completed. Comments shall be made on the certificate to note non-permissible testing equipment training.

There are no representatives of miners at Century Mining, LLC, Longview Mine. A copy of this petition has been posted on the bulletin board as of March 3, 2025.

In support of the proposed alternative method, the petitioner has also submitted specification tables for the PureFlo ESM+ PF60 PAPR and 3M Versaflo TR-300N PAPR; and the manufacturer spec sheets for the PureFlo ESM+ PF60 PAPR, 3M Versaflo TR-300N PAPR, and Drager X-plore 8700 EX PAPR.

The petitioner asserts that the alternative method will guarantee no less than the same measure of protection afforded the miners under the mandatory standard.

Song-ae Aromie Noe,
Director, Office of Standards, Regulations, and Variances.

[FR Doc. 2025-07141 Filed 4-24-25; 8:45 am]

BILLING CODE 4520-43-P